ELECTION ASSISTANCE COMMISSION

Federal Advisory Committee Act; Board of Advisors, the Standards Board and the Technical Guidelines Development Committee Charter Renewals

AGENCY: Election Assistance Commission.

ACTION: Notice of Federal Advisory Committee Charter Renewals.

SUMMARY: In accordance with the Federal Advisory Committee Act, the purpose of this notice is to announce that the Election Assistance Commission (EAC) has renewed the charters for the Board of Advisors, the Standards Board and the Technical Guidelines Development Committee for a two-year period through April 13, 2021. The Board of Advisors, the Standards Board, and the Technical Guidelines Development Committee are federal advisory committees under the Federal Advisory Committee Act and created by the Help America Vote Act of 2002.

DATES: Renewed through April 13, 2021.

ADDRESSES: Election Assistance Commission, 1335 East-West Highway, Suite 4300, Silver Spring, Maryland 20910.

To Obtain a Copy of the Charters: A complete copy of the Charters are available from the EAC in electronic format. An electronic copy can be downloaded in PDF format on the EAC's website, http://www.eac.gov. In order to obtain a paper copy of the Charters, please mail a written request to the Committee Management Officer U.S. Election Assistance Commission, 1335 East-West Highway, Suite 4300, Silver Spring, Maryland 20910.

FOR FURTHER INFORMATION CONTACT: Christy McCormick, Chairwoman of the Election Assistance Commission, at 866-747-1471 (toll free) or 301-563-3919. Email: facaboards@eac.gov.

SUPPLEMENTARY INFORMATION: The Board of Advisors, the Standards Board, and the Technical Guidelines Development Committee are Federal advisory committees created by statute whose mission is to advise the EAC through review of the voluntary voting systems guidelines; through review of voluntary guidance; and review of best practices recommendations. In accordance with the Federal Advisory Committee Act, Public Law 92-463, as amended, this notice advises interested persons of the renewal of these Charters.

Clifford D. Tatum,
General Counsel, U.S. Election Assistance Commission.

[FR Doc. 2019-07765 Filed 5-3-19; 8:45 am]

BILLING CODE 6820-KF-P